DEPARTMENT OF ENERGY

Federal Energy Regulatory Commission

[Docket Nos. EL17-6-000; QF11-193-002; QF11-194-002; QF11-195-002; QF11-196-002;QF11-197-002; QF11-198-002; QF11-199-002; QF11-200-002; QF11-201-002; QF1-202-002; QF11-203-002]

Notice of Petition for Enforcement; Allco Renewable Energy Limited Allco Finance Limited, Ecos Energy, LLC

Take notice that on October 19, 2016, pursuant to section 210(h)(2)(B) of the Public Utility Regulatory Policies Act of 1978 (PURPA),¹ Allco Renewable Energy Limited and Allco Finance Limited filed a Petition for Enforcement requesting the Federal Energy Regulatory Commission (Commission) exercise its authority and initiate enforcement action against the Massachusetts Department of Public Utilities and the Massachusetts Department of Energy Resources to remedy their alleged improper implementation of PURPA, all as more fully explained in the petition.

¹ 16 U.S.C. 824a-3(h)(2)(B) (2012).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on November 9, 2016.

Dated: October 20, 2016.
Kimberly D. Bose,
Secretary.

[FR Doc. 2016-25835 Filed 10-25-16; 8:45 am]

BILLING CODE 6717-01-P